NATIONAL INSTITUTE FOR LITERACY

Notice Inviting Proposals for Ownership and Operation of America's Literacy Directory

AGENCY: National Institute for Literacy.

ACTION: Notice inviting proposals for ownership and operation of America's Literacy Directory.

SUMMARY: America's Literacy Directory (ALD) provides information about adult literacy, preparation for General Educational Development (GED) tests and other testing, and English language learning programs for individuals in need of those services through an easy-to-use, extensive nationwide database.

As authorized by 20 U.S.C. 9252(c), the National Institute for Literacy (NIFL) developed and created ALD and has been operating it since 2004. NIFL now plans to turn over ownership and operation of ALD to one or more entities outside of the Federal Government that would, with its or their own resources, continue the maintenance and upkeep of ALD, make improvements to it, and continue to make it readily available at no cost to the public. Through this notice, we are inviting proposals from an entity or entities interested in owning and operating ALD in this manner. NIFL believes that the effectiveness of ALD will be enhanced by being owned by a non-Federal entity or entities, which would take responsibility for its continued operation.

ALD is currently supported in part through both an interagency agreement and a contract for data verification and technical support, respectively. To the extent possible, consistent with the terms of those agreements, NIFL plans to provide the entity or entities ultimately selected through the selection process outlined in this notice with non-proprietary information on the design, use, and maintenance of ALD in order to help the selected entity or entities maintain, operate, and enhance ALD. A text file providing the technical data to ALD is available to prospective bidders in “Structured Query Language” (SQL) format. This SQL data would assist the selected entity or entities in building a database containing all ALD tables and relationships of those tables. Prospective bidder(s) may request the text file by contacting NIFL at Daniel.Miller@ed.gov.

NIFL believes that turning over ownership and operation of the Directory to a non-Federal entity or entities will provide long-lasting benefits to the intended audience and to the nation.

DATES: To receive consideration, proposals must be submitted to NIFL no later than 5 p.m. (EST) on November 9, 2009. NIFL's goal is to turn over ownership and operation of ALD on or about December 30, 2009.

Address for Submission of Proposals: Interested entities should submit a proposal for owning and operating ALD, addressing the factors and associated criteria outlined in this notice, by an express carrier or by e-mail to: Daniel J. Miller, Acting Director, National Institute for Literacy, 1775 I Street, NW., 7th Floor, Washington, DC 20006-2050, or at Daniel.Miller@ed.gov.

FOR FURTHER INFORMATION CONTACT: Daniel Miller, (202) 245-7731, Daniel.Miller@ed.gov.

SUPPLEMENTARY INFORMATION:

Background

America's Literacy Directory (ALD) is an effective, national online site for the referral of adults to local literacy programs. The site is currently housed on the NIFL Web site at http://www.nifl.gov or at http://literacydirectory.org. From the site, adults and young adults can find assistance with reading or writing, study for the GED or other high school equivalency program(s), find an official GED test center, learn English, and get help with mathematics. Adults can enter their zip code or city and State and find programs within a selected geographic range. Through the site, and a toll-free telephone number, providers of adult literacy services may add program information to the ALD database.

NIFL intends, through an appropriate agreement or agreements signed by NIFL and the selected entity or entities, to set forth the rights and responsibilities of each party, and to transfer ownership and operation of ALD to a non-Federal entity or entities, which would support ALD with the entity's or entities' own resources. The agreement will include, among other things, a privacy policy that protects the privacy of the users of ALD, and limits the use of data about the users by the entity or entities selected.

Responsibilities of the Selected Entity or Entities

NIFL anticipates that the duties of the ALD owner will include: Maintaining and enhancing the ALD database of approximately 5,000 literacy programs as appropriate; providing technical assistance via email, phone, and online training sessions to States to assist them in integrating State and local program data into ALD (5-10 questions or requests for inclusion on the site per month are anticipated); providing technical assistance in implementing the ALD administration features for the national, regional, and State end users through e-mail and telephone (3-5 such questions or requests are anticipated per month); providing technical assistance and training support to literacy programs on maintaining, updating, and adding records or additional fields through email or online forms; providing technical assistance for special features of the ALD infrastructure, such as the capability for State and national organizations to share data and to customize ALD to aggregate data; making ALD available to the public at no cost; solving any implementation problems; maintaining and enhancing the quality of the operation of ALD and the content made available through ALD; and making improvements, as appropriate, to make ALD more effective.

Based on these general expectations, a non-Federal entity or entities interested in acquiring ownership of ALD should submit a proposal that addresses the following key factors, which will help demonstrate the organization's or organizations' commitment to adult literacy and to the effective management of ALD:

Key Factors

The entity demonstrates the following:

• A commitment to helping improve adult literacy.

• A substantive interest in the goals of ALD (the recruitment and referral of adult learners into high-quality literacy programs) and in assisting adults in need of basic skills acquisition, secondary preparation, and English language acquisition.

• A demonstrated history of national involvement in the service delivery system, either as a direct provider of services to adult learners or as a provider of services to State and/or local providers of adult literacy programs.

• The technological infrastructure and other resources to operate and maintain ALD and make it available to the public free of charge.

• Staff expertise in Web site development, maintenance, and appropriate telephone support.

• A plan to use an advisory committee with appropriate expertise to help the entity administer ALD.

• A demonstrated history of fiscal and management responsibility over a sustained period of time.

NIFL will use the following criteria to evaluate how well the proposals submitted in response to this notice address these factors:

Note: The maximum total score any proposal can receive is 100 points. The maximum score for each criterion is indicated in parentheses below.

Technical Approach (35 Points)

• The extent to which the entity or entities that submit a proposal (the “offeror”) demonstrates a commitment to adult literacy through previous projects and thorough knowledge of the field. (15 points)

• The extent to which the offeror demonstrates a thorough understanding of the target population that needs the services of ALD, and of how to provide appropriate resources to that target population. (10 points)

• The extent to which the offeror describes a clear vision for ALD and plans for its enhancement and continued operation. (10 points)

Organizational Capacity (30 Points)

• The quality of the proposed project personnel, and the extent to which the personnel have the appropriate qualifications, competencies, and experience in the management of this type of project. (15 points)

• The extent to which the offeror has the technological and financial resources to maintain and operate ALD and ensure that it is made available to the public free of charge and that it is improved, as appropriate. (15 points)

Management Plan (35 Points)

• The extent to which the offeror provides a description of its plan for managing the project in a clear and sequential fashion, and the extent to which that plan provides credible evidence that the management of personnel, physical resources, activities, and work production will result in a readily available and robust directory containing current program information with a 99.99 percent “uptime rate.” (20 points)

• The quality of the offeror's plans to establish and work with an outside advisory committee that has appropriate expertise to advise the offeror on its implementation of the project. (5 points)

• The extent to which the time commitments of the offeror's staff are appropriate to operating, maintaining, and as appropriate, improving, ALD. (5 points)

• The extent to which the offeror submitted a summary of a plan to evaluate the use of ALD and the accuracy of its content. (5 points)

Other Requirements for the Content of Proposals

Proposals submitted in response to this notice also must include the following information:

• The name, address, and contact information for the entity or entities submitting the proposal;

• The names, addresses, and contact information for the persons within the entity or entities that would be primarily responsible for the operation of ALD within the entity or entities submitting the proposal;

• Mission statement of the entity or entities;

• Capability statement (must address the key factors and each component of the selection criteria);

• Entity's or entities' Web site URL;

• Annual report or similar report on the condition of the entity or entities; and,

• A signed assurance by an appropriate officer(s) of the entity or entities indicating that the entity or entities agree to own and operate ALD consistent with their proposal and with the purposes and provisions of this notice, and understand that if they do not do so, the ownership of ALD, all content therein provided by NIFL, and all databases needed to operate ALD will revert to NIFL or to its surviving entity, which can award it to another entity or entities in accordance with a notice published in the Federal Register. If there is no surviving entity, then all content provided by the Institute, and all databases needed to operate ALD will revert to the U.S. Department of Education which can award it to another entity or entities in accordance with a notice published in the Federal Register. The assurance must indicate the entity's or entities' intent to enter into a signed agreement with NIFL for the transfer of the ownership and operation of ALD; this agreement shall acknowledge that NIFL shall transfer its specific rights and interest in data and content of ALD. In addition, the agreement shall acknowledge that, in the event of any reversion of ALD to NIFL or to its successor agency, NIFL or its successor agency shall possess the rights and interest in data and content of ALD provided by NIFL, including all databases needed to operate ALD. Finally, in the assurance the entity or entities must also agree to submit semi-annual reports on the operation and use of ALD in such detail as NIFL or its successor specifies in the agreement that the parties will sign. If there is no successor to NIFL, these reports will be submitted to the U.S. Department of Education as specified above.

Availability of Funds

There are no Federal funds available to support ALD once ownership and operation have been transferred from the Federal Government. It will be the sole responsibility of the selected entity or entities to bear all costs associated with ownership and operation of ALD.

Interests of the Federal Government

NIFL will transfer ownership of ALD and its content to the entity or entities selected. NIFL will transfer the rights and interest it possesses in data and content transferred to the entity or entities. In addition, as noted above, if the entity or entities selected operate ALD in a manner that is not consistent with its proposal and with the purposes and provisions of this notice, or if the entity or entities cease to operate ALD or suffer a loss of funding or support for ALD such that the quality of the ALD data declines, the ownership of ALD, all content therein provided by NIFL, and all databases needed to operate ALD will revert to NIFL or to its successor agency, and the entity or entities will not be authorized to operate ALD. If there is no surviving entity, then all content provided by the Institute, and all databases needed to operate ALD will revert to the U.S. Department of Education, which can award it to another entity or entities in accordance with a notice published in the Federal Register. Upon such a reversion, the Federal Government shall possess the rights and interest in data and content of ALD originally provided by NIFL, including all databases needed to operate ALD. Under these circumstances, NIFL may award the ownership of the Directory to another entity or entities in accordance with a notice published in the Federal Register.

Electronic Access to This Document: You can view this document, as well as all other documents of NIFL published in the Federal Register, in text or Adobe Portable Document Format (PDF) on the Internet at the following site: http://www.nifl.gov.

To use PDF, you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Daniel J. Miller,
Acting Director, National Institute for Literacy.

[FR Doc. E9-24841 Filed 10-15-09; 8:45 am]

BILLING CODE 6055-01-P